U.S. COMMITTEE ON THE MARINE TRANSPORTATION SYSTEM

[Docket No. DOT-OST-2024-0044]

Request for Information To Identify Barriers to Planning for Climate Resilience in U.S. Ports

AGENCY: U.S. Committee on the Marine Transportation System.

ACTION: Notice of request for information (RFI).

SUMMARY: The U.S. Committee on the Marine Transportation System (CMTS) seeks information to identify what types of planning guidance, documents, datasets, and Federal funding opportunities are currently being utilized in planning for long-term environmental change in U.S. Ports; and to identify barriers to action. The information received from this RFI will be analyzed to assess whether the needs for this type of planning are being met and identify where improvements could be made. Information is requested from anyone who works in or adjacent to climate resilience planning and execution in ports (public and private).

DATES: Interested persons and organizations are invited to submit comments on or before August 29, 2024.

ADDRESSES: Interested individuals and organizations should submit comments electronically via regulations.gov. Due to time constraints, mailed paper submissions will not be accepted, and electronic submissions received after the deadline may not be incorporated or taken into consideration.

Instructions: Federal eRulemaking Portal: Go to www.regulations.gov to submit your comments electronically. Information on how to use Regulations.gov, including instructions for accessing agency documents, submitting comments, and viewing the docket, is available on the site under “FAQ” (https://www.regulations.gov/faq).

Privacy Note: CMTS's policy is to make all comments received from members of the public available for public viewing in their entirety on the Federal eRulemaking Portal at www.regulations.gov. Therefore, commenters should be careful to include in their comments only information that they wish to make publicly available. CMTS requests that no proprietary information, copyrighted information, or personally identifiable information be submitted in response to this RFI.

FOR FURTHER INFORMATION CONTACT: Heather Gilbert, Senior Policy Advisor, U.S. Committee on the Marine Transportation System; telephone (202) 366-3612; email heather.gilbert@cmts.gov.

SUPPLEMENTARY INFORMATION: Per the interagency sea level rise report “2022: Global and Regional Sea Level Rise Scenarios for the United States: Updated Mean Projections and Extreme Water Level Probabilities Along U.S. Coastlines,” sea level rise driven by global climate change is a clear and present risk to the United States today and for the coming decades and centuries. Sea levels will continue to rise due to the ocean's sustained response to the warming that has already occurred—even if climate change mitigation succeeds in limiting surface air temperatures in the coming decades. Tens of millions of people in the United States already live in areas at risk of coastal flooding, with more moving to the coasts every year. Rising sea levels and land subsidence are combining, and will continue to combine, with other coastal flood factors, such as storm surge, wave effects, rising coastal water tables, river flows, and rainfall, some of whose characteristics are also undergoing climate-related changes. The net result will be a dramatic increase in the exposure and vulnerability of this growing population, as well as the critical infrastructure related to transportation, water, energy, trade, military readiness, and coastal ecosystems and the supporting services they provide.

By 2050, the expected relative sea level will cause tide and storm surge heights to increase and will lead to a shift in U.S. coastal flood regimes, with major and moderate high tide flood events occurring as frequently as moderate and minor high tide flood events occur today. Without additional risk-reduction measures, U.S. coastal infrastructure, communities, and ecosystems will face significant consequences. [https://aambpublicoceanservice.blob.core.windows.net/oceanserviceprod/hazards/sealevelrise/noaa-nos-techrpt01-global-regional-SLR-scenarios-US.pdf]

In addition to the impacts of sea level rise and flood risk, it is reasonable to assess whether changes in precipitation intensity and frequency or increasing temperatures will have impacts on port infrastructure, intermodal connectivity, or workforce health and efficiency. Long range planning efforts might consider if changes in sea ice extent and other environmental factors may lead to shifts in global trade patterns and shipping routes. Ports may assess potential changes in preferred shipping routes and changes to cargo volume and types associated with these shifts.

Various guidance documents have been published that can be used by ports for resiliency planning. The CMTS is looking to better understand how different threats impacting our ports—including increased storms, atmospheric rivers, changes in precipitation patterns are being perceived, planned for, and managed. What types of planning guidance, documents, datasets, and Federal funding opportunities are currently being utilized in planning for long-term environmental change on decadal or longer time scales?

Guides, such as the CISA Marine Transportation System Resilience Assessment Guide and the FEMA National Resilience Guidance have been released to help address these issues, and the CMTS is seeking input on how ports, port users and stakeholders are planning for these anticipated long term environmental changes.

Information Requested

Response to this RFI is voluntary. Each responding entity (individual or organization) is requested to submit only one response. The CMTS welcomes any responses to inform and guide the work of the request for information. Please feel free to respond to as many questions as you choose, indicating the question number being addressed. Responses are encouraged to include the name of the person(s) or organization(s) filing the comment, and may also include the respondent type (e.g., academic, non-profit, professional society, community-based organization, industry, trainee/student, member of the public, government, other). Respondent's role in the organization may also be provided (e.g., port professional, researcher, faculty, or program manager) on a voluntary basis. Additionally, please include the Docket ID at the top of your comments.

Comments containing references, studies, research, and other empirical data that are not widely published should include copies or electronic links to the referenced materials. Please note that the U.S. Government will not pay for response preparation, or for the use of any information contained in the response. A response to this RFI will not be viewed as a binding commitment to develop or pursue the project or ideas discussed. Respondents may provide information on as many questions below as they choose. Input is welcome from stakeholders and members of the public representing all backgrounds and perspectives.

For this RFI, “port” means any waterways, shoreside infrastructure, and/or intermodal connections that work together as a transportation system. `User' includes port authorities, officials, employees, consultants, and/or anyone that uses a port. To support this information gathering, CMTS seeks information on the types of planning guidance, documents, datasets, and Federal funding opportunities currently being utilized in planning for long-term environmental change in and adjacent to ports. If effective planning is not being undertaken, what are the barriers to action? To guide your input, please respond to any or all of the following questions:

1. Demographics. What is the type of organization you represent, the size of port, and the region you are located in?

2. Use of Guidance and/or information products Documents to Support Long-term (e.g., decades or longer) Port Resilience Planning. Have you used any of the documents listed below, or other similar, federally produced documents to plan for resilient port infrastructure in the face of a changing climate? If yes, please describe your experiences using them. If you have not used them, why not? Did you utilize other planning documents? Did you encounter any barriers or difficulties using these documents?

• National Resilience Framework—The White House

• National Climate Resilience Framework—USGCRP

• DOT Climate Action Plan for Resilience—DOT

• Inland Port Community Resilience Roadmap (2018)—EPA

• Climate Mapping for Resilience and Adaptation—DOI, NOAA

• Marine Transportation Resilience Assessment Guide—CISA

• Digital Coast—NOAA

• Federal Funding Handbook for the Marine Transportation System Sixth Edition (resource)—CMTS

3. Access to Port Resilience Data. How/where do you obtain environmental data and decision support for your port resilience planning needs? Do these data include future projections of environmental conditions, such as sea level rise? Are the data you obtain sufficient to meet your requirements?

4. Long-term Port Resilience Planning Process. How do you approach port resilience planning for climate change? Is it done in-house or contracted? Who in your organization does your port resilience planning?

5. Have you engaged in port-to-port sharing? Are you open to engaging in port-to-port sharing to learn best practices from other ports?

6. Grants and Other Funding Opportunities. Do you have an awareness of the availability of Federal or State funding opportunities to support port resilience and infrastructure planning? If so, have you applied to and/or been awarded any funding specifically to support long-term port resilience and infrastructure planning? Do you know where to find funding opportunities?

a. Is funding available to do the planning work?

b. What gaps or challenges have you encountered related to obtaining grants/funding/etc.? (Information on applying; planning documents; etc.)

7. Additional Needs. What more (in addition to funding, existing guidance, and existing data) do you need to improve your long-term resilience planning? (e.g., authoritative guidance documents, technical qualifications, data, incentives to plan for longer time frames, a central location for accessing all the information in one place, better planning tools, certification or leadership programs for port employees)

8. Other. Is there anything else you would like to share related to this request for information?

Authority: 46 U.S.C. 50401.

Issued in Washington, DC.
Brian James Tetreault,
Acting Director, U.S. Committee on the Marine Transportation System.

[FR Doc. 2024-15356 Filed 7-12-24; 8:45 am]

BILLING CODE 4910-9X-P